DEPARTMENT OF HEALTH AND HUMAN SERVICES

National Institutes of Health

Center for Scientific Review; Amended Notice of Meeting

Notice is hereby given of a change in the meeting of the Center for Scientific Review Special Emphasis Panel, October 20, 2006, 8 a.m. to October 20, 2006, 3 p.m., Wyndham Washington, DC, 1400 M Street, NW., Washington, DC, 2005 which was published in the Federal Register on September 29, 2006, 71 FR 57554-57556.

The meeting will be held October 19, 2006, 7:30 p.m. to October 20, 2006, 2 p.m. The meeting location remains the same. The meeting is closed to the public.

Dated: October 13, 2006.
Linda Payne,
Acting Director, Office of Federal Advisory Committee Policy.

[FR Doc. 06-8805 Filed 10-19-06; 8:45 am]

BILLING CODE 4140-01-M